DEPARTMENT OF ENERGY

Federal Energy Regulatory Commission

[Docket No. CP06-76-005]

Algonquin Gas Transmission, LLC; Notice of Motion To Vacate

March 17, 2009.

Take notice that on February 9, 2009, Algonquin Gas Transmission, LLC (Algonquin), 5400 Westheimer Court, Houston, Texas 77056-5310, filed in Docket No. CP07-76-005, a motion to vacate a portion of the certificate authority granted on December 21, 2006 ¹ allowing Algonquin to construct, install, own, operate, and maintain certain facilities, known as the Ramapo Expansion Project. Algonquin states that because of the change in primary receipt point for the KeySpan firm transportation capacity from the Cheshire compressor station to the Brookfield Meter Station, the rebuild of the existing Mars 90 turbine (12,600 HP) at the Stony Point Station to a Mars 100 turbine (15,000 HP) will not be required.

¹ Algonquin Gas Transmission, LLC, 117 FERC ¶ 61,319 (2006) (“December 21 Order”).

The motion is on file with the Commission and open to public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding this application should be directed to Steven E. Hellman, Associate General Counsel, Algonquin Gas Transmission, LLC, 5400 Westheimer Court, P.O. Box 1642, Houston, Texas 77251-1642, phone (713) 627-5215.

There are two ways to become involved in the Commission's review of Algonquin's request. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to East Tennessee's project. The Commission will consider these comments in determining the appropriate action to be taken, but the filing of a comment alone will not serve to make the filer a party to the proceeding. The Commission's rules require that persons filing comments in opposition to the project provide copies of their protests only to the party or parties directly involved in the protest.

Persons who wish to comment only in support of or in opposition to East Tennessee's request should submit an original and two copies of their comments to the Secretary of the Commission. The Commission's rules require that persons filing comments in opposition to the project provide copies of their protests only to the applicant. However, the non-party commenters will not receive copies of all documents filed by other parties or issued by the Commission and will not have the right to seek court review of the Commission's final order.

The Commission strongly encourages electronic filings of comments, protests and interventions via the Internet in lieu of paper. See, 18 CFR 385.2001(a)(1)(iii) and the instructions on the Commission's Web site (http://www.ferc.gov) under the “e-Filing” link.

Comment Date: April 7, 2009.

Kimberly D. Bose,
Secretary.

[FR Doc. E9-6288 Filed 3-23-09; 8:45 am]

BILLING CODE